DEPARTMENT OF COMMERCE

Bureau of the Census

Census Bureau 2020 Advisory Committee

AGENCY: Bureau of the Census, Department of Commerce.

ACTION: Notice of Committee Establishment.

SUMMARY: The Bureau of the Census (Census Bureau) is hereby giving notice that the Secretary of Commerce has determined that the establishment of the Census Bureau 2020 Advisory Committee is necessary and in the public interest. The Committee will function solely as an advisory body and in compliance with provisions of the Federal Advisory Committee Act. Copies of the charter will be filed with the appropriate Committees of the U.S. Congress and with the Library of Congress.

FOR FURTHER INFORMATION CONTACT: Tara Dunlop Jackson, Branch Chief for Advisory Committees, Customer Liaison and Marketing Services Office, tara.t.dunlop@census.gov, Department of Commerce, U.S. Census Bureau, Room 8H177, 4600 Silver Hill Road, Washington, DC 20233, telephone 301-763-5222. For TTY callers, please use the Federal Relay Service 1-800-877-8339.

SUPPLEMENTARY INFORMATION: The Census Bureau 2020 Advisory Committee will advise the Director of the Census Bureau on the full range of 2020 Census programs including an incremental transition from current state to target state, along with operationalizing methods and new technology across multiple locations and time zones to deliver a secure and successful, cost-effective 2020 Census. The Committee will advise the Census Bureau through the 2020 Census Lifecycle on the identification of new strategies for improved census operations and on ways to increase 2020 Census participation and beyond.

The Committee will address census policies, methodology, tests, operations, communications/messaging, and other activities to ascertain needs and best practices to improve the 2020 Census program. The Committee will provide advice on 2020 Census programs that will use a complete address list, generate the largest possible self-response, employ administrative records and third-party data, and reengineer nonresponse follow-up.

The Committee will review and provide formal recommendations and feedback on key operations and the efficacy of planned and implemented innovations related to accurately counting every person living in America while saving taxpayer money.

Dated: December 9, 2016.
John H. Thompson,
Director, Bureau of the Census.

[FR Doc. 2016-30606 Filed 12-19-16; 8:45 am]

BILLING CODE 3510-07-P